ENVIRONMENTAL PROTECTION AGENCY

[FRL OP-OFA-119]

Environmental Impact Statements; Notice of Availability

Responsible Agency: Office of Federal Activities, General Information 202-564-5632 or https://www.epa.gov/nepa.

Weekly receipt of Environmental Impact Statements (EIS)

Filed March 18, 2024 10 a.m. EST Through March 25, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240052, Final, NCPC, DC, ADOPTION—Proposed Land Acquisition at Washington Navy Yard, Washington, DC, Review Period Ends: 04/29/2024, Contact: Matthew Flis 202-482-7236.

The National Capital Planning Commission (NCPC) has adopted the United States Navy's Final EIS No. 20230093 filed 07/28/2023 with the Environmental Protection Agency. The NCPC was not a cooperating agency on this project. Therefore, republication of the document is necessary under section 1506.3(b)(1) of the CEQ regulations.

EIS No. 20240053, Draft Supplement, USACE, MD, Mid-Chesapeake Bay Island Ecosystem Restoration Project: James Island, Dorchester County, Maryland, Comment Period Ends: 05/15/2024, Contact: Angela Sowers 410-962-7440.

EIS No. 20240054, Final, BIA, CA, Redding Rancheria Fee-to-Trust and Casino, Review Period Ends: 04/29/2024, Contact: Chad Broussard 916-978-6165.

EIS No. 20240055, Final, FTA, CA, West Santa Ana Branch Transit Corridor Final EIS/EIR, Review Period Ends: 04/29/2024, Contact: Rusty Whisman 213-202-3956.

Dated: March 25, 2024.
Cindy S. Barger,
Director, NEPA Compliance Division, Office of Federal Activities.

[FR Doc. 2024-06695 Filed 3-28-24; 8:45 am]

BILLING CODE 6560-50-P